NUCLEAR REGULATORY COMMISSION

[Docket No's. 50-413-OLA, 50-414-OLA; ASLBP No. 03-815-03-OLA]

Atomic Safety and Licensing Board; Duke Energy Corporation, (Catawba Nuclear Station, Units 1 and 2); Notice of Evidentiary Hearing and Opportunity To Make Limited Appearance Statements Before Administrative Judges: Ann Marshall Young, Chair, Anthony J. Baratta, Thomas S. Elleman

May 20, 2004.

This Atomic Safety and Licensing Board hereby gives notice that, beginning on Tuesday, June 15, 2004, it will convene an evidentiary hearing in Charlotte, North Carolina, to receive testimony and exhibits and allow the cross-examination of witnesses on certain matters at issue in this proceeding. In addition, the Board gives notice that, in accordance with 10 CFR 2.715(a), it will also entertain oral limited appearance statements from members of the public, as specified in section B below.

This proceeding involves certain challenges of Intervenor Blue Ridge Environmental Defense League (BREDL) to a request filed by Duke Energy Corporation (Duke) to amend the operating license for its Catawba Nuclear Station to allow the use of four mixed oxide (MOX) lead test assemblies at the station. (MOX fuel contains a mixture of plutonium and uranium oxides, with plutonium providing the primary fissile isotopes; Duke has submitted its request as part of the ongoing U.S.-Russian Federation plutonium disposition program, a nuclear nonproliferation program to dispose of surplus plutonium from nuclear weapons by converting the material into MOX fuel and using that fuel in nuclear reactors.) On September 17, 2003, this Licensing Board was established to preside over this proceeding. 68 FR 55,414 (Sept. 25, 2003). By Memorandum and Order dated March 5, 2004, the Licensing Board granted BREDL's request for hearing. LBP-04-04, 59 NRC_(2004).

At the June evidentiary hearing, the Board will receive evidence on BREDL's challenges to the adequacy of certain aspects of Duke's license amendment request, relating to asserted differences in the behavior of MOX fuel and typical low enriched uranium fuel and the impact of those differences on accident scenario analyses for the Catawba plant.

A. Timing and Location of Evidentiary Hearing

The evidentiary hearing will commence the morning of Tuesday, June 15, 2004 at 9 a.m. in the Federal Courthouse, 401 West Trade Street, Charlotte, North Carolina. The hearing of the above-described evidence will continue on June 16 and the morning of June 17, 2004, as necessary. At the conclusion of each day, the Board will announce when the hearing will reconvene, which will generally be at 9 a.m. each day. The Board may make changes in the schedule, lengthening or shortening each day's session or canceling a session as deemed necessary or appropriate to allow for witnesses' availability and other matters arising during the course of the proceeding.

Members of the public are encouraged to attend any and all sessions of this evidentiary hearing, but should note that these sessions are adjudicatory proceedings open to the public for observation only. Those who wish to participate are invited to offer limited appearance statements as provided in section B, below. There will be security screening for all sessions, and electronic devices may not be brought into the courthouse.

B. Participation Guidelines for Limited Appearance Session

On the evening of June 15, 2004, beginning at 6 p.m. and continuing until 8 p.m. as necessary, in a portion of the Grand Ballroom (lobby level) of the Omni Charlotte Hotel (132 East Trade Street), any persons who are not parties to the proceeding will be permitted to make oral statements setting forth their positions on matters of concern relating to this proceeding. Although these statements do not constitute testimony or evidence, they may nonetheless help the Board and/or the parties in their consideration of the issues in this proceeding.

The time allotted for each statement will normally be no more than five minutes, but may be further limited depending on the number of written requests to make oral statements that are submitted in accordance with section C below, and/or on the number of persons present the evening of June 15, 2004, who wish to make unscheduled comments. Persons who submit timely written requests to make oral statements will be given priority over those who have not filed such requests. If all scheduled and unscheduled speakers present have made their oral statements prior to 8 p.m., the Licensing Board may terminate the session before 8 p.m.

C. Submitting Requests To Make an Oral Limited Appearance Statement

To be considered timely, a written request to make an oral statement must be mailed, faxed, or sent by e-mail so as to be received by close of business (4:30 p.m. e.s.t.) on Monday, June 7, 2004. Written requests should be submitted to:

Mail: Office of the Secretary, Rulemakings and Adjudications Staff, U.S. Nuclear Regulatory Commission, Washington, DC 20555-0001.

Fax: (301) 415-1101 (verification (301) 415-1966).

E-mail: hearingdocket@nrc.gov.

In addition, using the same method of service, a copy of the written request to make an oral statement should be sent to the Chair of this Licensing Board as follows:

Mail: Administrative Judge Ann Marshall Young, Atomic Safety and Licensing Board Panel, Mail Stop T-3F23, U.S. Nuclear Regulatory Commission, Washington, DC 20555-0001.

Fax: (301) 415-5599 (verification (301) 415-7550).

E-mail: AMY@nrc.gov.

D. Submitting Written Limited Appearance Statements

A written limited appearance statement may be submitted at any time. Such statements should be sent to the Office of the Secretary using any of the methods prescribed above, with a copy to the Licensing Board Chair by the same method.

E. Availability of Documentary Information Regarding the Proceeding

Documents relating to this proceeding are available for public inspection at the NRC Public Document Room (PDR), located at One White Flint North, 11555 Rockville Pike (first floor), Rockville, Maryland; or electronically through the publicly available records component of the NRC Agencywide Documents Access and Management System (ADAMS). ADAMS is accessible through the NRC Web site at http://www.nrc.gov/reading-rm/adams.html. The PDR and many public libraries have terminals for public access to the Internet. Persons who do not have access to ADAMS or who encounter problems in obtaining access to the documents located in ADAMS may contact the NRC PDR reference staff by telephone at 1 (800) 397-4209 or (301) 415-4737, or by e-mail to pdr@nrc.gov.

For the Atomic Safety and Licensing Board.
Dated: Rockville, Maryland, May 20, 2004.
Ann Marshall Young,
Chair, Administrative Judge.

[FR Doc. 04-11853 Filed 5-25-04; 8:45 am]

BILLING CODE 7590-01-P